DEPARTMENT OF COMMERCE

National Oceanic and Atmospheric Administration

[Docket No. 080211154-8161-01]

RIN 0648-XF53

2008 Sea Scallop Research Set-Aside Program

AGENCY: Northeast Fisheries Science Center Program Office (NEFSC), National Marine Fisheries Service (NMFS), National Oceanic and Atmospheric Administration (NOAA), Commerce.

ACTION: Notice of funding availability.

SUMMARY: NMFS requests scallop research proposals to utilize total allowable catch (TAC) and Days-at-Sea (DAS) that have been set aside by the New England Fishery Management Council (Council) to fund scallop research endeavors under the 2008 Atlantic Sea Scallop Research Set-Aside Program (Scallop RSA Program). No Federal funds are provided for research under this notification. Rather, the Scallop RSA Program funds scallop research and compensates participating vessels through the sale of scallops harvested under the research set-aside quota. Priority will be given to research proposals that address the following research priorities as identified by NMFS and the Council: Intensive industry-based access area surveys; Other surveys, including areas not surveyed by the annual NMFS survey; Scallop biology; Identification and evaluation of methods to reduce groundfish bycatch; Identification and evaluation of methods to reduce habitat impacts; Habitat characterization research; Sea turtle/scallop fishery interaction research; Scallop stock assessment and population dynamics research; Area management research; and Research that will facilitate the transition of the NFMS Northeast scallop dredge survey.

DATES: Full proposals must be received by 5 p.m., eastern standard time, on March 21, 2008.

ADDRESSES: Application information is available at http://www.grants.gov. Electronic copies of the Standard Forms for submission of research proposals may be found on the Internet in a PDF (Portable Document Format) version at http://www.ago.noaa.gov/grants/appkit.shtml. Delays may be experienced when registering with Grants On-line near the end of a solicitation period. Therefore, NOAA strongly recommends that you do not wait until the application deadline date to begin the application process through Grants.gov. Applicants without Internet access may contact Cheryl Corbett, NMFS, Northeast Fisheries Science Center, 166 Water Street, Woods Hole, MA 02543, by phone 508-495-2070, fax 508-495-2004, or email cheryl.corbett@noaa.gov. To apply for this NOAA Federal funding opportunity, please go to http://www.grants.gov, and use the following funding opportunity # NMFS-NEFSC-2008-2001277.

FOR FURTHER INFORMATION CONTACT: Information may be obtained from Deirdre Boelke, New England Fishery Management Council, by phone (978) 465-0492, fax (978) 465-3116, or e-mail dboelke@nefmc.org, from Cheryl Corbett, NMFS, Northeast Fisheries Science Center, by phone 508-495-2070, fax 508-495-2004, or email cheryl.corbett@noaa.gov, or from Ryan Silva, NMFS, Northeast Regional Office, by phone (978) 281-9326, fax (978) 281-9135, or email ryan.silva@noaa.gov.

SUPPLEMENTARY INFORMATION: Framework 19 to the Fishery Management Plan (FMP), establishes scallop fishery management measures for the 2008 and 2009 fishing years. As part of the management measures, Framework 19 allows NMFS to utilize total allowable catch (TAC) and Days-at-Sea (DAS) to fund scallop research endeavors under the 2008 Atlantic Sea Scallop Research Set-Aside Program (Scallop RSA Program). No Federal funds are provided for research under this notification. Rather, the Scallop RSA Program funds scallop research and compensates participating vessels through the sale of scallops harvested under the research set-aside quota. Priority will be given to research proposals that address the following research priorities as identified by NMFS and the Council: (1) Intensive industry-based access area surveys; (2) Other surveys, including areas not surveyed by the annual NMFS survey; (3) Scallop biology; (4) Identification and evaluation of methods to reduce groundfish bycatch; (5) Identification and evaluation of methods to reduce habitat impacts; (6) Habitat characterization research; (7) Sea turtle/scallop fishery interaction research; (8) Scallop stock assessment and population dynamics research; (9) Area management research; and (10) Research that will facilitate the transition of the NFMS Northeast scallop dredge survey.

Framework 19 landings per unit effort and economic impact analyses were used to establish a value on the proposed DAS and TAC set-asides. Framework 19 projects the average price per pound of scallops in the 2008 fishing year to be between $7.70 and $8.47. The average daily open area catch rate for the 2008 scallop fishing year (March 1, 2008 - February 28, 2009) is projected to be 1,176 lb (533 kg) per DAS. Using the more conservative price estimate of $7.70, the DAS and TAC set aside values as currently proposed by Framework 19 are estimated as follows: (1) The DAS set-aside for the open fishing areas is 235 DAS with a value of $2,127,972; (2) the research TAC set-aside for the Nantucket Lightship Closed Area (NLCA) would be 110,000 lb (50 metric tons (mt)), with a value of $847,000; and (3) the research TAC set-aside from the Elephant Trunk Scallop Access Area (ETAA) would be 440,000 lb (200 mt), with a value of $3,388,000. Thus, for fishing year 2008, the total value of the set-asides available for scallop-related research is approximately $6,362,972 (33 percent from the open area DAS set-aside, 13 percent from the NLCA, 53 percent from the ETAA). Researchers must specify the amount of set-aside (TAC or DAS, as appropriate) sought from each area.

ELECTRONIC ACCESS: The full text of the full funding opportunity announcement for this program can be accessed via the Grants.gov web site at http://www.grants.gov. The announcement will also be available by contacting the program officials identified under FOR FURTHER INFORMATION CONTACT. Applicants must comply with all requirements contained in the full funding opportunity announcement.

STATUTORY AUTHORITY: Statutory authority for this program is provided under sections 303(b)(11), 402(e), and 404(c) of the Magnuson-Stevens Fishery Conservation and Management Act, 16 U.S.C. 1853(b)(11), 16 U.S.C. 1881a(e), and 16 U.S.C. 1881(c), respectively. Statutory authority for entering into cooperative agreements and other financial agreements with nonprofit organizations is found at 15 U.S.C. 1540. The ability to set aside scallop TAC and DAS is authorized through the scallop FMP.

CFDA: 11.454, Unallied Management Projects

FUNDING AVAILABILITY: No Federal funds are provided for sea scallop research under this notice. Funds are generated through the sale of set-aside scallops. The Federal government will issue Letters of Authorization (LOAs) that provide special fishing privileges in response to sea scallop research proposals selected to participate in the 2008 Scallop RSA Program. Funds generated from RSA landings shall be used to cover the cost of the research activities, including vessel costs, and to compensate vessels for expenses incurred during the collection of set-aside scallops. For example, these funds could be used to pay for gear modifications, monitoring equipment, additional provisions (e.g., fuel, ice, food for scientists) or the salaries of research personnel. The Federal Government is not liable for any costs incurred by the researcher or vessel owner. Any additional funds generated through the sale of set-aside scallops above the cost of the research activities shall be retained by the vessel owner as compensation for the use of his/her vessel.

ELIGIBILITY: 1. Eligible applicants include, but are not limited to, institutions of higher education, hospitals, other nonprofits, commercial organizations, individuals, state, local, and Native American tribal governments. Federal agencies and institutions are not eligible to receive Federal assistance under this notice. Additionally, employees of any Federal agency or Regional Fishery Management Council (Council) are ineligible to submit an application under this program. However, Council members who are not Federal employees may submit an application. 2. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions. 3. DOC/NOAA encourages applications from members of the fishing community and applications that involve fishing community cooperation and participation.

COST SHARING REQUIREMENTS: None required.

EVALUATION AND SELECTION PROCEDURES: The general evaluation criteria and selection factors that apply to full applications to this funding opportunity are summarized below. The evaluation criteria for full applications will have different weights and details. Further information about the evaluation criteria and selection factors can be found in the full funding opportunity announcement.

EVALUATION CRITERIA FOR PROJECTS: The review panel convened by NMFS to evaluate proposals submitted in response to this request for proposals (see the Review and Selection Process section of this document), will evaluate proposals by assigning scores up to the maximum indicated for each of the following criteria:

1. Importance and/or relevance and applicability of the proposed project: This criterion ascertains whether there is intrinsic value in the proposed work and/or relevance to NOAA, Federal, regional, state, or local activities. For the 2008 Scallop RSA Program, provide a clear definition of the problem, need, issue, or hypothesis to be addressed. The proposal should describe its relevance to RSA program priorities and detail how the data gathered from the research will be used to enhance the understanding of the fishery resource or contribute to the body of information on which management decisions are made. (25 points)

2. Technical/scientific merit: This criterion assesses whether the approach is technically sound and/or innovative, if the methods are appropriate, and whether there are clear project goals and objectives. For the 2008 RSA Program, proposals should provide a clear definition of the approach to be used, including descriptions of field work, theoretical studies, and laboratory analysis to support the proposed research. (25 points)

3. Overall qualifications of the project: This criterion assesses whether the applicant and team members possess the necessary education, experience, training, facilities, and administrative resources to accomplish the project. For the 2008 RSA Program, proposals should provide adequate justification as to how the project is likely to achieve its stated objectives. Projects should demonstrate support, cooperation, and/or collaboration with the fishing industry. (15 points)

4. Project costs: This criterion evaluates the budget to determine if it is realistic and commensurate with the project needs and time frame. For the 2008 RSA program, cost-effectiveness of the project will be considered. (25 points)

5. Outreach and education: This criterion assesses whether the project involves a focused and effective education and outreach strategy regarding NOAA's mission to protect the Nations natural resources. For the 2008 RSA Program, proposals should provide identification of anticipated benefits, potential users, likelihood of success, and methods of disseminating results. (10 points)

REVIEW AND SELECTION PROCESS: At the request of NOAA, applications may be reviewed and evaluated by the Council before they are submitted to NOAA, or, if not first reviewed by the Council, reviewed by the Technical Review Team convened by NOAA, which consist of NOAA Scientist and related Industry experts.

Both the Council review and the NOAA review are included to allow the Council to retain its responsibility to consider research in fishery management plans and to allow NOAA to conduct the reviews if the overall Council process prohibits their review in a timely manner. If the Council is requested to review the proposals, the proposals will be reviewed in a public meeting process by representatives of the Council, based on the criteria described in the Evaluation Criteria section of this document. The Council's representatives will then make recommendations to the Council. The Council will consider recommendations of its representatives; the criteria described in the Evaluation Criteria section of this document, and may also consider the program policy factors listed below. The Council will then make its recommendations to the Regional Administrator through a formal vote or by consensus recommendations, as determined appropriate by the Council. Recommendations from the Council will be given to the Regional Administrator in rank order based on average scores of the projects, taking into consideration the numerical scores based on the criteria described in the Evaluation Criteria section of this document, and consideration of program policy factors listed below. If the Council does not participate in the evaluation of the proposals, NOAA will solicit written technical evaluations from a Technical Review Team, which consists of three or more NOAA Scientist and related Industry experts to determine the technical merit of the proposal and to provide a rank score of the project based on the criteria described in the Evaluation Criteria section of this document. Following completion of the technical evaluation, NOAA will convene a Management Review Panel, containing members from the Council's Scallop or Research Steering Committees and technical experts, to review and individually critique the scored proposals to enhance NOAA's understanding of the proposals. Initial successful applicants may be required, in consultation with NMFS, to further refine/modify the study methodology as a condition of project approval. No consensus recommendations will be made by the Committee members, technical experts, or by the review panel.

SELECTION FACTORS FOR PROJECTS: Upon implementation of the merit review, the proposal will be presented in rank order, to the Selecting Official for final funding recommendations. A program officer may first make recommendations to the Selecting Official by applying the selection factors below. The Selecting Official shall award in the rank order unless the proposal is justified to be selected out of rank order based upon one or more of the following factors: 1. Availability of funds. 2. Balance/distribution of funds: a. geographically, b. by type of institutions, c. by type of patterns, d. by research areas, and e. by project types. 3. Whether this project duplicates other projects funded or considered for funding by NOAA or other Federal agencies. 4. Program priorities and policy factors. 5. Applicants prior award performance. 6. partnerships and/or participation of targeted groups. 7. Adequacy of information necessary to conduct a NEPA analysis and determination. Key program policy concerns are: (1) the time of year the research activities are to be conducted; (2) the ability of the proposal to meet the experimental fishery requirements discussed under the Permits and Approvals section of this document; (3) redundancy of research projects; and (4) logistical concerns. Therefore, the highest scoring projects may not necessarily be selected for an award. Subsequent approval by the NOAA Grants Officer will allow NMFS, as applicable, to exempt selected vessel(s) from regulations of the Atlantic Sea Scallop FMP. For example, NOAA may authorize selected vessel(s) to exceed scallop possession limits, take additional trips into Access Area(s), or take trips that are exempt from DAS regulations to compensate the vessel for incurred research expenses. All sea scallop research must be conducted in accordance with provisions approved by NOAA and provided in an LOA or Exempted Fishing Permit (EFP) issued by NMFS. Based on the final funding recommendations of the Selecting Official, TAC and DAS set-asides will be awarded according to rank. If a requested set-aside has been fully utilized by a higher ranked proposal, TAC and/or DAS will be awarded from a different set-aside. Once all the TAC and/or DAS set-asides have been awarded or all qualified proposals have been funded, whichever comes first, the selection process will end. For proposals that request exemptions from existing regulations (e.g., possession limits, closed areas, etc.), the impacts of the proposed exemptions must be analyzed. Any applicants who request regulatory exemptions that extend beyond the DAS or TAC set-aside proposed in Framework 19 will be required to adhere to the regulations governing the issuance of an EFP by NMFS. As appropriate, NMFS will consult with the Councils and successful applicants to secure the information required for granting an exemption if issuance of an EFP is necessary for the research to be conducted. No usage of RSA TAC or DAS will be allowed until NMFS notifies the applicant that the applicant's EFP request is approved. Unsuccessful applications will be returned to the submitter. Successful applications will be incorporated into the award document.

INTERGOVERNMENTAL REVIEW: Applicants will need to determine if their State participates in the intergovernmental review process. This information can be found at the following website: www.whitehouse.gov/omb/grants/spoc.html. This information will assist applicants in providing either a Yes or No response to Item 16 of the Application Form, SF-424, entitled “Application for Federal Assistance.”

LIMITATION OF LIABILITY: In no event will NOAA or the Department of Commerce be responsible for proposal preparation costs if these programs fail to receive funding or are cancelled because of other agency priorities. Publication of this announcement does not oblige NOAA to award any specific project or to obligate any available funds.

NATIONAL ENVIRONMENTAL POLICY ACT (NEPA): NOAA must analyze the potential environmental impacts, as required by the National Environmental Policy Act (NEPA), for applicant projects or proposals which are seeking NOAA federal funding opportunities. Detailed information on NOAA compliance with NEPA can be found at the following NOAA NEPA website: http://www.nepa.noaa.gov, including our NOAA Administrative Order 216-6 for NEPA, http://www.nepa.noaa.gov/NAO216_6_TOC.pdf, And the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

THE DEPARTMENT OF COMMERCE PRE-AWARD NOTIFICATION REQUIREMENTS FOR GRANTS AND COOPERATIVE AGREEMENTS: The Department of Commerce Pre-Award Notification Requirements for Grants and Cooperative Agreements contained in the Federal Register notice of December 30, 2004 (69 FR 78389), are applicable to this solicitation.

PAPERWORK REDUCTION ACT: This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001.

Notwithstanding any other provision of law, no person is required to, nor shall a person be subject to a penalty for failure to comply with, a collection of information subject to the requirements of the PRA unless that collection of information displays a currently valid OMB control number.

EXECUTIVE ORDER 12866: This notice has been determined to be not significant for purposes of Executive Order 12866.

EXECUTIVE ORDER 13132 (FEDERALISM): It has been determined that this notice does not contain policies with Federalism implications as that term is defined in Executive Order 13132.

ADMINISTRATIVE PROCEDURE ACT/REGULATORY FLEXIBILITY ACT: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: February 12, 2008.
Samuel D. Rauch III
Deputy Assistant Administrator for Regulatory Programs, National Marine Fisheries Service.

[FR Doc. E8-3142 Filed 2-19-08; 8:45 am]

BILLING CODE 3510-22-S